FEDERAL COMMUNICATIONS COMMISSION

47 CFR Part 73

[MB Docket No. 13-52; RM-11693; DA 13-1379]

Radio Broadcasting Services; Matagorda, Texas

AGENCY: Federal Communications Commission.

ACTION: Final rule.

SUMMARY: The Audio Division, at the request of Tejas Broadcasting Ltd., LLP, allots FM Channel 291A and deletes FM Channel 252A at Matagorda, Texas. This allotment change is part of a hybrid rule making and FM application proposal. Channel 291A can be allotted at Matagorda, consistent with the minimum distance separation requirements of the Commission's rules, at city reference coordinates of 28-41-25 NL and 95-58-02 WL, without site restriction. Concurrence by the Government of Mexico is required because Channel 291A at Matagorda, Texas, is located within 320 kilometers (199 miles) of the U.S.-Mexican border. Mexican concurrence has been requested for this vacant allotment, but has not yet been received. If a construction permit for Channel 291A at Matagorda, Texas is granted prior to receipt of formal concurrence by the Mexican government, the authorization will include the following condition: “Operation with the facilities specified herein for Matagorda, Texas, is subject to modification, suspension, or termination without right to hearing, if found by the Commission to be necessary in order to conform to the Mexico-United States FM Broadcast Agreement, or if specifically objected to by the Government of Mexico.” See Supplementary Information infra.

DATES: Effective August 16, 2013.

FOR FURTHER INFORMATION CONTACT: Deborah Dupont, Media Bureau, (202) 418-2180.

SUPPLEMENTARY INFORMATION: This is a synopsis of the Commission's Report and Order, MB Docket No. 13-52, adopted June 12, 2013, and released June 14, 2013. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC, 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4). The Commission will send a copy of this Report and Order in a report to be sent to Congress and the Government Accountability Office pursuant to the Congressional Review Act, see U.S.C. 801(a)(1)(A).

List of Subjects in 47 CFR part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended at Matagorda by removing Channel 252A, and by adding Channel 291A.

[FR Doc. 2013-17050 Filed 7-16-13; 8:45 am]

BILLING CODE 6712-01-P